DEPARTMENT OF ENERGY

Federal Energy Regulatory Commission

[Project No. 5376-062]

Horseshoe Bend Hydroelectric Company; Notice of Availability of Environmental Assessment

January 18, 2002.

In accordance with the National Environmental Policy Act of 1969 and the Federal Energy Regulatory Commission's (Commission) regulations, the Division of Hydropower Administration and Compliance, Office of Energy Projects has reviewed an application to amend the license for the Horseshoe Bend Hydroelectric Project. The amendment application is for the modification of existing facilities and construction of new facilities in two phases to control sediment accumulation in the project's power canal. The proposed Phase I facilities include (a) widening of the entrance of the canal bottom width from 79 feet to 360 feet, (b) installing a 540-foot long elevated sill at the canal entrance, (c) constructing a diverging channel downstream of the sill and a sluice way on the river side of the sill, with trash racks over sluiceway boxes. Features of the Phase II include (a) a desanding/settling basin in the canal area, (b) desander sluice boxes end-to-end across the canal bed, and (c) access ramp for the maintenance of desander and other facilities. Phase II facilities will be constructed only if required after evaluating the effectiveness of Phase I facilities.

An Environmental Assessment (EA) has been prepared by staff for the proposed Phase I activities only, because the implementation of Phase II actions is uncertain and would depend upon the effectiveness of the facilities under Phase I. In the EA, staff does not identify any significant impacts that would result from the Commission's approval of the construction of Phase I facilities. Thus, staff concludes that approval of the proposed amendment of license would not cause a major federal action significantly affecting the quality of the human environment.

The EA has been attached and made part of an Order Amending the License Under Article 2, issued January 18, 2002, for the Horseshoe Bend Project (FERC No. 5376-062). Copies of the EA can be viewed at the Commission's Public Reference Room, Room 2A, 888 First Street, NE., Washington, DC 20426, or by calling (202) 208-1371. The EA may also be viewed on the Web at http://www.ferc.fed.us/online/rims.htm. Call (202) 208-2222 for assistance.

Linwood A. Watson, Jr.,
Acting Secretary.

[FR Doc. 02-1828 Filed 1-24-02; 8:45 am]

BILLING CODE 6717-01-P